DEPARTMENT OF LABOR

Office of Workers' Compensation Programs

[OMB Control No. 1240-0022]

Proposed Extension of Information Collection; Notice of Law Enforcement Officer's Injury or Occupational Disease (CA-721); and Notice of Law Enforcement Officer's Death (CA-722)

AGENCY: Office of Workers' Compensation Programs, Division of Federal Employees' Longshore and Harbor Workers' Compensation, (OWCP/DFELHWC) Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, OWCP/DFELHWC is soliciting comments on the information collection for Notice of Law Enforcement Officer's Injury or Occupational Disease (CA-721) and Notice of Law Enforcement Officer's Death (CA-722).

DATES: All comments must be received on or before July 7, 2023.

ADDRESSES: You may submit comment as follows. Please note that late, untimely filed comments will not be considered.

Written/Paper Submissions: Submit written/paper submissions in the following way:

• Mail/Hand Delivery: Mail or visit DOL—OWCP/DFELHWC, Office of Workers' Compensation Programs, Division of Federal Employees' Longshore and Harbor Workers' Compensation, U.S. Department of Labor, 200 Constitution Ave. NW, Room S-3323, Washington, DC 20210.

• OWCP/DFELHWC will post your comment as well as any attachments, except for information submitted and marked as confidential, in the docket at https://www.regulations.gov.

FOR FURTHER INFORMATION CONTACT: Anjanette Suggs, Office of Workers' Compensation Programs, Division of Federal Employees' Longshore, and Harbor Workers' Compensation, OWCP/DFELHWC, at suggs.anjanette@dol.gov (email); (202) 354-9660.

SUPPLEMENTARY INFORMATION:

I. Background

The Federal Employees' Compensation Act (FECA) provides, under 5 U.S.C. 8191, et seq. and 20 CFR 10.735, that non-Federal law enforcement officers injured or killed under certain circumstances are entitled to the benefits of the Act, to the same extent as if they were employees of the Federal Government. The CA-721 and CA-722 are used by non-Federal law enforcement officers and their survivors to claim compensation under the FECA. Form CA-721 is used for claims for injury. Form CA-722 is used for claims for death. The authority for this collection is 5 U.S.C. 8191-8193.

II. Desired Focus of Comments

OWCP/DFELHWC is soliciting comments concerning the proposed information collection related to the Notice of Law Enforcement Officer's Injury or Occupational Disease (CA-721) and Notice of Law Enforcement Officer's Death (CA-722). OWCP/DFELHWC is particularly interested in comments that:

• Evaluate whether the collection of information is necessary for the proper performance of the functions of the Agency, including whether the information has practical utility;

• Evaluate the accuracy of OWCP/DFELHWC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP/DFELHWC located at 200 Constitution Ave. NW, Room S-3323, Washington, DC 20210. Questions about the information collection requirements may be directed to the person listed in the FOR FURTHER INFORMATION section of this notice.

III. Current Actions

This information collection request concerns Notice of Law Enforcement Officer's Injury or Occupational Disease (CA-721), Notice of Law Enforcement Officer's Death (CA-722). OWCP/DFELHWC has updated the data with respect to the number of respondents, responses, burden hours, and burden costs supporting this information collection request from the previous information collection request.

Type of Review: Extension, without change, of a currently approved collection.

Agency: Office of Workers' Compensation Programs, Division of Federal Employees' Longshore, and Harbor Workers' Compensation, OWCP/DFELHWC.

OMB Number: 1240-0022.

Affected Public: Individuals or Households.

Number of Respondents: 2.

Frequency: On occasion.

Estimated Annualized Burden Hours and Cost Table: $40.00.

Number of Responses: 2.

Annual Burden Hours: 2.5 hours.

Annual Respondent or Recordkeeper Cost: $3.00.

OWCP Forms: Form CA-721, Notice of Law Enforcement Officer's Injury or Occupational Disease; Form CA-722, Notice of Law Enforcement Officer's Death.

Comments submitted in response to this notice will be summarized in the request for Office of Management and Budget approval of the proposed information collection request; they will become a matter of public record and will be available at https://www.reginfo.gov.

Anjanette Suggs,
Certifying Officer.

[FR Doc. 2023-09670 Filed 5-5-23; 8:45 am]

BILLING CODE 4510-CH-P